DEPARTMENT OF JUSTICE

Drug Enforcement Administration

[Docket No. DEA-392]

Importer of Controlled Substances Registration: CODY LABORATORIES, INC.

ACTION: Notice of Registration.

SUMMARY: Cody Laboratories, Inc. applied to be registered as an importer of certain basic classes of narcotic or non-narcotic controlled substances. The DEA grants Cody Laboratories, Inc. registration as an importer of those controlled substances.

SUPPLEMENTARY INFORMATION: By notice dated December 31, 2013, and published in the Federal Register on January 10, 2014, 79 FR 1888, Cody Laboratories, Inc., 601 Yellowstone Avenue, Cody, Wyoming 82414-9321, applied to be registered as an importer of certain basic classes of narcotic or non-narcotic controlled substances.

The Drug Enforcement Administration (DEA) has considered the factors in 21 U.S.C. 823, 952(a) and 958(a) and determined that the registration of Cody Laboratories, Inc. to import the basic classes of controlled substances is consistent with the public interest and with United States obligations under international treaties, conventions, or protocols in effect on May 1, 1971. The DEA investigated the company's maintenance of effective controls against diversion by inspecting and testing the company's physical security systems, verified the company's compliance with state and local laws, and reviewed the company's background and history.

Therefore, pursuant to 21 U.S.C. 952(a) and 958(a), and in accordance with 21 CFR 1301.34, the above-named company is granted registration as an importer of the basic classes of narcotic or non-narcotic controlled substances listed:

Controlled substance | Schedule
Phenylacetone (8501) | II
Poppy Straw Concentrate (9670) | II
Tapentadol (9780) | II

The company plans to import narcotic raw materials for manufacturing and further distribution to its customers. The company is registered with the DEA as a manufacturer of several controlled substances that are manufactured from poppy straw concentrate.

The company plans to import an intermediate form of tapentadol (9780), to bulk manufacture tapentadol for distribution to its customers.

Comments and request for hearings on applications to import narcotic raw material are not appropriate. 72 FR 3417 (2007).

In reference to the non-narcotic raw material, no comments or objections have been received.

Dated: June 10, 2014.
Joseph T. Rannazzisi,
Deputy Assistant Administrator.

[FR Doc. 2014-14151 Filed 6-16-14; 8:45 am]

BILLING CODE 4410-09-P